DEPARTMENT OF HEALTH AND HUMAN SERVICES

Office of the Secretary

[Document Identifier HHS-OS-20521-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0937-0025, scheduled to expire on October 31, 2013. Comments submitted during the first public review of this ICR will be provided to OMB. OMB will accept further comments from the public on this ICR during the review and approval period.

DATES: Comments on the ICR must be received on or before November 25, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0937-0025 and document identifier HHS-OS-20521-30D for reference.

Information Collection Request Title: Reference Request for Applicants to the U.S. Public Health Service Commissioned Corps.

OMB No.: 0937-0025.

Abstract: The information collected will include personal information such as name, social security number, and date of birth. Other information will be responses to various questions regarding applicants' qualifications to join the Commissioned Corps of the U.S. Public Health Service.

Need and Proposed Use of the Information: The Commissioned Corps of the U.S. Public Health Service has a need for the information in order to assess the qualifications of each applicant and make a determination whether the applicant meets the requirements to receive a commission. The information is used to make determinations on candidates/applicants seeking appointment to the Corps to assess their whether they are suitable for life in the uniformed services based upon a review of a variety of assessment factors including, but not limited to: personal adjustment, employment history, character, suitability investigation clearance, and a candidate's prior history of service in one of the uniformed services. Their potential for leadership as a commissioned officer and their ability to deal effectively with people is evaluated.

Likely Respondents: Respondents would be applicants/candidates for a commission in the Commissioned Corps of the United States Public Health Service.

Burden Statement: The time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Prequalification Review | 8,000 | 1 | 15/60 | 2,000
PHS-50 | 1,000 | 1 | 1.0 | 1,000
PHS-1813 | 4,000 | 1 | 15/60 | 1,000
Addendum: Commissioned Corps Personal Statement | 1,000 | 1 | 45/60 | 750
Total |  |  |  | 4,750

Keith A. Tucker,
Information Collection Clearance Officer.

[FR Doc. 2013-25184 Filed 10-24-13; 8:45 am]

BILLING CODE 4150-49-P